FEDERAL COMMUNICATIONS COMMISSION

47 CFR Parts 1 and 90

[WP Docket No. 07-100; Report No. 3167; FRS 17394]

Petitions for Reconsideration of Action in Rulemaking Proceeding

AGENCY: Federal Communications Commission.

ACTION: Petitions for reconsideration.

SUMMARY: Petitions for Reconsideration (Petitions) have been filed in the Commission's rulemaking proceeding by Jeffrey S. Cohen, on behalf of APCO International, Ralph A. Haller, on behalf of National Public Safety Telecommunications Council and Chief Jeffrey D. Johnson, on behalf of The Public Safety Spectrum Alliance.

DATES: Oppositions to the Petitions must be filed on or before February 24, 2021. Replies to an opposition must be filed on or before March 8, 2021.

ADDRESSES: Federal Communications Commission, 45 L Street NE, Washington, DC 20554.

FOR FURTHER INFORMATION CONTACT: Nellie A. Foosaner, Mobility Division, Wireless Telecommunications Bureau, (202) 418-2925 or Nellie.Foosaner@fcc.gov.

SUPPLEMENTARY INFORMATION: This is a summary of the Commission's document, Report No. 3167, released January 12, 2021. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: 4.9 GHz Band, FCC 20-137, published at 85 FR 76469, November 30, 2020, in WP Docket No. 07-100. This document is being published pursuant to 47 CFR 1.429(e). See also 47 CFR 1.4(b)(1) and 1.429(f), (g).

Number of Petitions Filed: 3.

Federal Communications Commission.
Marlene Dortch,
Secretary, Office of the Secretary.

[FR Doc. 2021-01366 Filed 2-8-21; 8:45 am]

BILLING CODE 6712-01-P